ENVIRONMENTAL PROTECTION AGENCY

[EPA-HQ-OAR-2008-0531; FRL 9903-39-OEI]

Information Collection Request Submitted to OMB for Review and Approval; Comment Request; Restructuring of the Stationary Source Audit Program (Renewal)

AGENCY: Environmental Protection Agency (EPA).

ACTION: Notice.

SUMMARY: The Environmental Protection Agency has submitted an information collection request (ICR), Restructuring of the Stationary Source Audit Program (Renewal), to the Office of Management and Budget (OMB) for review and approval in accordance with the Paperwork Reduction Act. This is a proposed extension of the ICR, which is currently approved through January 31, 2014. Public comments were previously requested via the Federal Register (78 FR 51183) on August 20, 2013 during a 60-day comment period. This notice allows for an additional 30 days for public comments. A fuller description of the ICR is given below, including its estimated burden and cost to the public. An agency may not conduct or sponsor and a person is not required to respond to a collection of information unless it displays a currently valid OMB control number.

DATES: Additional comments may be submitted on or before January 2, 2014.

ADDRESSES: Submit your comments, referencing Docket ID number EPA-HQ-OAR-2008-0531, to: (1) The EPA online using www.regulations.gov (our preferred method), by email to a-and-r-docket@epa.gov, or by mail to: EPA Docket Center, Environmental Protection Agency, Air and Radiation Docket, Mail Code 28221T, 1200 Pennsylvania Avenue NW., Washington, DC 20460; and (2) OMB by mail to: Office of Information and Regulatory Affairs, Office of Management and Budget, Attention: Desk Officer for EPA, 725 17th Street NW., Washington, DC 20503.

The EPA's policy is that all comments received will be included in the public docket without change including any personal information provided, unless the comment includes profanity, threats, information claimed to be Confidential Business Information (CBI) or other information whose disclosure is restricted by statute.

FOR FURTHER INFORMATION CONTACT: Candace Sorrell, Air Quality Analysis Division (E143-2), Environmental Protection Agency; telephone number (919) 541-1064; fax number: (919) 541-0516; email address: sorrell.candace@epa.gov.

SUPPLEMENTARY INFORMATION: Supporting documents, which explain in detail the information that the EPA will be collecting, are available in the public docket for this ICR. The docket can be viewed online at www.regulations.gov or in person at the EPA Docket Center, WJC West, Room 3334, 1301 Constitution Ave., NW., Washington, DC. The telephone number for the Docket Center is (202) 566-1744. For further information about the EPA's public docket, visit http://www.epa.gov/dockets.

EPA ICR Number: 2355.03

OMB Control Number: 2060-0652

Abstract: This ICR concerns the reporting of the true value of the audit sample to the compliance authority (state, local or EPA Regional Office) by the accredited audit sample provider (AASP) as required in the General Provisions of Parts 51, 60, 61 and 63. This ICR covers the period of 2014-2016.

The required audit program started on June 16, 2013. A regulated emisson source conducting a compliance test would purchase an audit sample from an AASP. The AASP would report the true value of the audit sample to the compliance authority (state, local or EPA Regional Office). The AASP would, in most cases, make the report by electronic mail. A report would be made for each audit sample that the AASP sold to a regulated emission source that was conducting an emissions test to determine compliance with an emission limit.

Form Numbers: None.

Respondents/affected entities: Laboratories that supply audit samples.

Respondent's obligation to respond: Voluntary.

Estimated total number of potential respondents: 9

Frequency of response: There is no regular schedule for collecting information. The information is event driven and information is collected only when an AASP supplies an audit sample to a user.

Total estimated burden: 2,646 hours per year. Burden is defined at 5 CFR 1320.3(b).

Total estimated cost: $201,116 per year. This includes the cost of preparing, validating, disturbing and reporting the audit results.

Changes in the Estimates: There are no changes in the hours in the total estimated respondent burden compared with the ICR currently approved by OMB.

John Moses,
Director, Collection Strategies Division.

[FR Doc. 2013-28782 Filed 11-29-13; 8:45 am]

BILLING CODE 6560-50-P